FEDERAL COMMUNICATIONS COMMISSION

Radio Broadcasting Services; AM or FM Proposals To Change the Community of License

AGENCY: Federal Communications Commission.

ACTION: Notice.

SUMMARY: The following applicants filed AM or FM proposals to change the community of license: 1TV.COM, INC., Station KBSZ, Facility ID 11217, BP-20100429ADM, From WICKENBURG, AZ, To APACHE JUNCTION, AZ; CEDAR COVE BROADCASTING, INC., Station KADE, Facility ID 173616, BMPED-20100707GWD, From SALIDA, CO, To SNOWMASS VILLAGE, CO; DELTA MEDIA CORPORATION, Station KLWB-FM, Facility ID 183335, BPH-20100624AHQ, From OPELOUSAS, LA, To CARENCRO, LA; EDUCATIONAL MEDIA FOUNDATION, Station WQKV, Facility ID 89586, BPED-20100622ADM, From ROCHESTER, IN, To WARSAW, IN; MUNBILLA BROADCASTING PROPERTIES, LTD., Station KHHG, Facility ID 170991, BPH-20100625AZQ, From HAMILTON, TX, To EVANT, TX; WILLIAM S. KONOPNICKI, Station KNKI, Facility ID 78413, BPH-20100609AGX, From PINETOP, AZ, To TONTO BASIN, AZ.

DATES: Comments may be filed through October 5, 2010.

ADDRESSES: Federal Communications Commission, 445 12th Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. 2010-19457 Filed 8-5-10; 8:45 am]

BILLING CODE 6712-01-P